DEPARTMENT OF VETERANS AFFAIRS

Health Services Research and Development Service, Scientific Merit Review Board; Notice of Meeting

The Department of Veterans Affairs (VA) gives notice under the Federal Advisory Committee Act, 5 U.S.C. App. 2, that the Health Services Research and Development Service (HSR&D) Scientific Merit Review Board will conduct in-person and teleconference meetings of its seven Health Services Research (HSR) subcommittees from 8:00 a.m. to approximately 5:00 p.m. on the dates and at the locations indicated below:

• HSR 1—Medical Care and Clinical Management; Health Professional Behavior on August 27-28, 2013, at the National Naval Medical Center, Bethesda, Maryland;

• HSR 2—Patient and Special Population Determinants of Health and Care on August 27-28, 2013, at the Veterans Health Administration (VHA) National Conference Center, Arlington, Virginia;

• HSR 3—Healthcare Informatics on Tuesday, August 27, 2013, at the Paralyzed Veterans of America, Washington, DC;

• HSR 4—Mental and Behavioral Health on August 27-28, 2013, at the Paralyzed Veterans of America, Washington, DC;

• HSR 5—Health Care System Organization and Delivery; Research Methods and Models on August 27-28, 2013, at the VHA National Conference Center, Arlington, Virginia;

• HSR 6—Post-acute and Long-term Care on Wednesday, August 28, 2013, at the Paralyzed Veterans of America, Washington, DC;

• HSR 7—Aging and Diminished Capacity in the Context of Aging on Tuesday, August 27, 2013, at the Disabled American Veterans, Washington, DC; and

• Nursing Research Initiative (NRI) from 8:00 a.m. to 12:00 p.m. on Thursday, August 29, 2013, at the National Naval Medical Center, Bethesda, Maryland.

The purpose of the Board is to review HSR&D applications involving the measurement and evaluation of health care services, the testing of new methods of health care delivery and management, and nursing research. Applications are reviewed for scientific and technical merit, mission relevance, and the protection of human and animal subjects. Recommendations regarding funding are submitted to the Chief Research and Development Officer.

Each subcommittee meeting of the Board will be open to the public for approximately one half-hour at the start of the meetings' first day on August 27 (HSR 1, 2, 3, 4, 5 and 7), August 28 (HSR 6), and August 29 (NRI). This time will be used to cover administrative matters and to discuss the general status of the program. The remaining portion of each subcommittee meeting will be closed for discussion, examination, reference to, and oral review of the intramural research proposals and critiques. During the closed portion of each subcommittee meeting, discussion and recommendations will include qualifications of the personnel conducting the studies (the disclosure of which would constitute a clearly unwarranted invasion of personal privacy), as well as research information (the premature disclosure of which would likely compromise significantly the implementation of proposed agency action regarding such research projects). As provided by subsection 10(d) of Public Law 92-463, as amended by Public Law 94-409, closing the meeting is in accordance with 5 U.S.C. 552b(c)(6) and (9)(B).

No oral comments will be accepted from the public for either portion of the meetings. Those who plan to attend the open portion of a subcommittee meeting should contact Kristy Benton-Grover, Designated Federal Officer and Program Manager, Scientific Merit Review Board, Department of Veterans Affairs, Health Services Research and Development Service (10P9H), 810 Vermont Avenue NW., Washington, DC 20420, or by email at Kristy.benton-grover@va.gov. Written comments may be submitted to Mrs. Benton-Grover at the same address and email. For further information, please call Mrs. Benton-Grover at (202) 443-5728.

By Direction of the Secretary.
Dated: August 12, 2013.
Vivian Drake,
Committee Management Officer.

[FR Doc. 2013-19913 Filed 8-15-13; 8:45 am]

BILLING CODE 8320-01-P